DEPARTMENT OF LABOR

Employment and Training Administration

[TA-W-57,446]

Herules Incorporation, Aqualon Division, Parlin, NJ; Notice of Affirmative Determination Regarding Application for Reconsideration

By letter dated August 11, 2005, a representative of the International Union of Operating Engineers, Local 68, requested administrative reconsideration of the Department of Labor's Notice of Negative Determination Regarding Eligibility to Apply for Worker Adjustment Assistance, applicable to workers of the subject firm. The determination was signed on July 20, 2005, and will soon be published in the Federal Register.

The petitioner alleges in the request for reconsideration that workers were separated from the subject company's Power House, which provided steam to the subject company and Green Tea Chemical Technologies (TA-W-53,831, certified January 16, 2004). The petitioner further alleges that the separations were caused by the subject company's reduced need to provide steam to Green Tea Chemical Technologies facility.

The Department carefully reviewed the petitioner's request for reconsideration and has determined that the Department will conduct further investigation based on new information provided by the petitioner.

Conclusion

After careful review of the application, I conclude that the claim is of sufficient weight to justify reconsideration of the Department of Labor's prior decision. The application is, therefore, granted.

Signed at Washington, DC, this 19th day of August 2005.
Elliott S. Kushner,
Certifying Officer, Division of Trade Adjustment Assistance.

[FR Doc. E5-4777 Filed 8-31-05; 8:45 am]

BILLING CODE 4510-30-P